DEPARTMENT OF DEFENSE

Department of the Army

Notice of Availability of a Journal Bearing Analysis Suite Computer Modeling Code for Exclusive, Partially Exclusive, or Non-exclusive Licenses

AGENCY: Department of the Army, DoD.

ACTION: Notice of availability.

SUMMARY: The Department of the Army announces the general availability of exclusive, partially exclusive or non-exclusive licenses relative to Journal Bearing Analysis Suite computer modeling code. See this link for a description of the suite and its capabilities: http://www.grc.nasa.gov/WWW/SurfSci/JournalBearings/main-text.html. Any license shall comply with 35 U.S.C. 209 and 37 CFR 404.

FOR FURTHER INFORMATION CONTACT: Michael D. Rausa, U.S. Army Research Laboratory, Office of Research and Technology Applications, ATTN: AMSRD-ARL-DP-P/Bldg. 434, Aberdeen Proving Ground, MD 21005-5425, Telephone: (410) 278-5028.

SUPPLEMENTARY INFORMATION: None.

Brenda S. Bowen,
Army Federal Register Liaison Officer.

[FR Doc. E9-22552 Filed 9-17-09; 8:45 am]

BILLING CODE 3710-08-P